DEPARTMENT OF DEFENSE

Office of the Secretary

Notice of Intent To Grant an Exclusive License; University of Maryland

AGENCY: National Security Agency, DoD.

ACTION: Notice.

SUMMARY: The National Security Agency hereby gives notice of its intent to grant the University of Maryland a revocable, non-assignable, exclusive license to practice the following Government-Owned invention as described in U.S. Provisional Patent Application Serial No. 61/119,848 entitled: “RF Power Harvesting Circuit Design,” filed 04 December 2008, and any related non-provisional patent application and all Letters Patent issuing thereon, and any continuation, continuation-in-part or division of said non-provisional patent application and any reissue or extension of said Letters Patent, in the field of RF Power Harvesting Technologies. The above-mentioned invention is assigned to the United States Government as represented by the National Security Agency.

DATES: Written objections along with any supporting evidence specific to the granting of this license must be received by December 28, 2009.

ADDRESSES: Written objections must be sent to the National Security Agency Technology Transfer Program, 9800 Savage Road, Suite 6541, Fort George G. Meade, MD 20755-6541.

FOR FURTHER INFORMATION CONTACT: Marian T. Roche, Director, Technology Transfer Program, 9800 Savage Road, Suite 6541, Fort George G. Meade, MD 20755-6541, telephone (443) 479-9569.

Dated: December 4, 2009.
Mitchell S. Bryman,
Alternate OSD Federal Register Liaison Officer, Department of Defense.

[FR Doc. E9-29379 Filed 12-9-09; 8:45 am]

BILLING CODE 5001-06-P